DEPARTMENT OF TRANSPORTATION

Federal Motor Carrier Safety Administration

Sunshine Act Meetings; Unified Carrier Registration Plan Board of Directors

AGENCY: Federal Motor Carrier Safety Administration (FMCSA), DOT.

ACTION: Notice of Unified Carrier Registration Plan Board of Directors (UCR Board) and Registration Systems Subcommittee meetings.

TIME AND DATE: The meetings will occur on the following schedule and will take place in the Eastern (Standard) Time Zone:

Thursday, December 13, 2018

10-11 a.m.—Registration Systems Subcommittee

11 a.m.-2 p.m.—UCR Board

PLACE: These meetings will be open to the public at the National Press Building, 529 14th Street NW, Suite 750, Washington, DC 20045, and via conference call. Those not attending the meetings in person may call toll-free; 1-866-210-1669, passcode 5253902#, to listen and participate in the meetings.

STATUS: Open to the public.

MATTERS TO BE CONSIDERED: The Unified Carrier Registration Plan Board of Directors (the Board) will continue its work in developing and implementing the Unified Carrier Registration Plan and Agreement and to that end, may consider matters properly before the Board. An agenda for these meetings will be available no later than 5 p.m. Eastern Standard Time, December 3, 2018, at: https://ucrplan.org.

FOR FURTHER INFORMATION CONTACT: Mr. Avelino Gutierrez, Chair, Unified Carrier Registration Board of Directors, at (505) 827-4565.

Issued on: November 20, 2018.
Larry W. Minor,
Associate Administrator for Policy, Federal Motor Carrier Safety Administration.

[FR Doc. 2018-25822 Filed 11-21-18; 4:15 pm]

BILLING CODE 4910-EX-P